DEPARTMENT OF TRANSPORTATION

Federal Aviation Administration

Public Notice for a Change in Use of Aeronautical Property at Miami International Airport, Miami-Dade County, FL

AGENCY: Federal Aviation Administration (FAA), DOT.

ACTION: Request for public comment.

SUMMARY: The Federal Aviation Administration is requesting public comment on the Miami-Dade Aviation Department (MDAD) request to release a portion of airport property ±50.661 square feet/±1.163 acres.

The Property Location:

Parcel ‘A’ located at 7275 NW., 8th Street, Miami-Dade County, Florida.

Parcel ‘B’ located at the Northwest corner of NW., 8th Street and NW. 12th Avenue, Miami-Dade County Florida.

The Property is currently vacant and is remnants of the land acquired by Miami-Dade Aviation Department (MDAD) in order to extend Runway 9 to the West.

The Sponsor's proposed non-aeronautical use of the property is for the release of the land to the Florida Department of Transportation (FDOT) for the construction of an Interchange at State Road (S.R.) 826, the Palmetto Expressway, and State Road (S.R.) 836, the Dolphin Expressway.

Documents reflecting the Sponsor's request are available, by appointment only, for inspection of the Miami-Dade Aviation Department (MDAD) Manager for Development's Office and at the Orlando FAA Airports District Office.

DATES: Comments must be received on or before June 27, 2005.

ADDRESSES: Documents are available for review at the MDAD Manager of Development Office, Miami International Airport, Miami-Dade County Aviation Department, Mr. Manuel A. Rodriguez, 4200 NW., 36th Street, Building 5A, Suite 400, Miami, Florida 33122, telephone (305) 876-7090 and at the FAA Orlando Airports District Office, Ilia A. Quinones, 5950 Hazeltine National Drive, Suite 400, Orlando, Florida 32822 and telephone number (407) 812-6331. Written comments on the Sponsor's request must be delivered or mailed, 2 copies to Ilia A. Quinones, Program Manager, 5950 Hazeltine National Drive, Suite 400, Orlando, Florida 32822, telephone number (407) 812-6331.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Items to address:

• Property location.

Parcel “A”—NW. 8th Street Site. The metes and bounds description is as follows:

Parcel “A”—

That portion of Lots 37, 38, and 39, Block 2 of WOOD FARMS SUBDIVISION according to the plat thereof recorded in Plat Book 43 at Page 49 of the Public Records of Miami-Dade County, Florida, being more particularly described as follows:

COMMENCE at the Southwest corner of said Lot 37; thence run N01°25′51″ W, along the West line of said Lot 37, for a distance of 10.05 feet to a point of intersection with a line parallel to and 10.00 feet North of the South line of said Lot 37; thence run N87°38′21″ E, along a line 10.00 North of the South line of said Lot 37, for a distance of 15.00 feet to a point of intersection with a line parallel to and 15.00 feet East of the West line of said Lot 37 as conveyed to Richard Electric Supply Co. Inc., by County Deed dated January 5, 1983, recorded in Official Records Book 11689 at Page 134 of the Public Records of Miami-Dade County, Florida, said point being also the POINT OF BEGINNING; thence run N01°25′51″ W, along the line 15.00 East and parallel to the West line of said Lot 37, for a distance of 268.97 feet to the point of intersection with the Southwesterly Limited Access Right of Way line of NW 72 Avenue Realignment as shown in the State of Florida Department of Transportation Right-of-Way Map of Section 87502-2672 dated June 23, 1976, recorded in Road Plat Book 112 at Page 50 of the Public Records of Miami-Dade County, Florida; thence run S50°29′10″ E, along the Southwesterly Limited Access Right of Way line, for a distance of 112.49 feet; thence run S44°47′46″ E, along the Southwesterly Limited Access Right of Way line, for a distance of 145.58 feet; thence run S36°44′25″ E, along the Southwesterly Limited Access Right of Way line, for a distance of 103.81 feet to the point of intersection with a line 10.00 feet North and parallel with the South line of Lot 39 as shown in the State of Florida Department of Transportation Right-of-Way Map of Section 87502-2672 dated June 23, 1976, recorded in Road Plat Book 112 at Page 50 of the Public Records of Miami-Dade County, Florida; thence run S87°28′11″ W, along the said line parallel to and 10.00 feet North of the South line of Lot 39, 38 and 37, for a distance of 244.98 to the POINT OF BEGINNING, containing 36,197 square-feet or 0.831 acres more or less.

And

Parcel “B”—Northwest corner of NW. 8th Street Site. The metes and bounds description is as follows:

Parcel “B”—

That portion of Lots 42, and 41, Block 2 of WOOD FARMS SUBDIVISION according to the plat thereof recorded in Plat Book 43 at Page 49 of the Public Records of Miami-Dade County, Florida being more particularly described as follows:

BEGINNING at the Northeast corner of said Lot 42; thence run S01°25′46″ E, along the East line of said Lot 42 said line being also the westerly Right-of-Way line of NW 72 Avenue, for a distance of 121.14 feet to the point of intersection with the Limited Access Right of Way line of NW 72 Avenue Realignment as shown in the State of Florida Department of Transportation Right-of-Way Map of Section 87502-2672 dated June 23, 1976, recorded in Road Plat Book 112 at Page 50 of the Public Records of Miami-Dade County, Florida, said point also being a point of curvature of a circular curve concave to the Northwest; thence run Southerly and Southwesterly along the arc of said circular curve concave to the Northwest, having a radius of 25.00 feet, through a central angle of 74°34′34″, for an arc distance of 32.54 feet to a point of reverse curvature with a curve concave to the Southeast, having a radius of 257.00 feet, through a central angle of 5°44′36″, for an arc distance of 25.76 feet to a point of intersection with the Northeasterly Limited Access Right of Way line of NW 72 Avenue Realignment; thence run N36°13′31″ W, along the said Northeasterly Limited Access Right of Way line of NW 72 Avenue Realignment, for a distance of 183.27 feet to a point of intersection with the North line of said Lot 42, thence run N87°28′21″ E, along the North line of said Lot 42, for a distance of 147.41 feet to the point of intersection with the Westerly Right-of-Way line of NW 72 Avenue, said point being also the POINT OF BEGINNING, containing 14,151 square-feet or 0.325 acres more or less.

• Property's existing aeronautical use. The subject property consists of two physically non-contiguous parcels separated by Milam Dairy Road in unincorporated Miami Dade County, Florida. The land is vacant and outside of the airfield operational area of the airport.

• Sponsor's proposed non-aeronautical use. The purpose of the release of this land is to facilitate the transfer of the property to the Florida Department of Transportation (FDOT) for the expansion of the State Road (S.R.) 826/State Road (S.R.) 836 interchange.

FOR FURTHER INFORMATION CONTACT: Ilia A. Quinones, Program Manager, Orlando Airports District Office, 5950 Hazeltine National Drive, Suite 400, Orlando, FL 32822-5024.

W. Dean Stringer,
Manager, Orlando Airports District Office, Southern Region.

[FR Doc. 05-10597 Filed 5-26-05; 8:45 am]

BILLING CODE 4910-13-M